ENVIRONMENTAL PROTECTION AGENCY

[EPA-HQ-OAR-2007-1196; FRL-9631-7]

Recent Postings of Broadly Applicable Alternative Test Methods

AGENCY: Environmental Protection Agency (EPA).

ACTION: Notice of availability.

SUMMARY: This notice announces the broadly applicable alternative test method approval decisions the EPA has made under and in support of New Source Performance Standards (NSPS) and the National Emission Standards for Hazardous Air Pollutants (NESHAP) under the Clean Air Act (CAA) in 2011.

FOR FURTHER INFORMATION CONTACT: An electronic copy of each alternative test method approval document is available on the EPA's Web site at www.epa.gov/ttn/emc/approalt.html. For questions about this notice, contact Ms. Lula H. Melton, Air Quality Assessment Division, Office of Air Quality Planning and Standards (E143-02), Environmental Protection Agency, Research Triangle Park, NC 27711; telephone number: 919-541-2910; fax number: 919-541-0516; email address: melton.lula@epa.gov. For technical questions about individual alternative test method decisions, refer to the contact person identified in the individual approval documents.

SUPPLEMENTARY INFORMATION:

I. General Information

A. Does this notice apply to me?

This notice will be of interest to entities regulated under 40 Code of Federal Regulations(CFR) parts 59, 60, 61, and 63, state, local, and tribal agencies, and the EPA Regional Offices responsible for implementation and enforcement of regulations under 40 CFR parts 60, 61, and 63.

B. How can I get copies of this information?

You may access copies of the broadly applicable alternative test method approval documents from the EPA's Web site at www.epa.gov/ttn/emc/approalt.html.

II. Background

Broadly applicable alternative test method approval decisions made by the EPA in 2011 under the National Volatile Organic Compound Emission Standards for Consumer and Commercial Products, 40 CFR part 59, NSPS, 40 CFR part 60, and NESHAP, 40 CFR parts 61 and 63 are identified in this notice (see Table 1). Source owners and operators may voluntarily use these broadly applicable alternative test methods subject to their specific applicability. Use of these broadly applicable alternative test methods does not change the applicable emission standards.

As explained in a previous Federal Register notice published at 72 FR 4257 (January 30, 2007) and found on the EPA's Web site at www.epa.gov/ttn/emc/approalt.html, the EPA Administrator has the authority to approve the use of alternative test methods to comply with requirements under 40 CFR parts 60, 61, and 63. This authority is found in sections 60.8(b)(3), 61.13(h)(1)(ii), and 63.7(e)(2)(ii). In the past, we have performed thorough technical reviews of numerous requests for alternatives and modifications to test methods and procedures. Based on these reviews, we have often found that these changes or alternatives would be equally valid and appropriate to apply to other sources within a particular class, category, or subcategory. Consequently, we have concluded that, where a method modification or an alternative method is clearly broadly applicable to a class, category, or subcategory of sources, it is both more equitable and efficient to approve its use for all appropriate sources and situations at the same time.

It is important to clarify that alternative methods are not mandatory but permissive. Sources are not required to employ such a method but may choose to do so in appropriate cases. Source owners or operators should review the specific broadly applicable alternative method approval decision on the EPA's Web site at http://www.epa.gov/ttn/emc/approalt.html before electing to employ it. As per 63.7(f)(5), by electing to use an alternative method for 40 CFR part 63 standards, the source owner or operator must continue to use the alternative method until approved otherwise.

The criteria for approval and procedures for submission and review of broadly applicable alternative test methods are outlined at 72 FR 4257 (January 30, 2007). We will continue to announce approvals for broadly applicable alternative test methods on the EPA's Web site at www.epa.gov/ttn/emc/approalt.html and annually publish a notice that summarizes approvals for broadly applicable alternative test methods.

This notice comprises a summary of ten such approval documents added to our Technology Transfer Network from January 1, 2011, through December 31, 2011. The alternative method decision letter/memo number, the reference method affected, sources allowed to use this alternative, and the modification or alternative method allowed are summarized in Table 1 of this notice. Please refer to the complete copies of these approval documents available from the EPA's Web site at www.epa.gov/ttn/emc/approalt.html as the table serves only as a brief summary of the broadly applicable alternative test methods. If you are aware of reasons why a particular alternative test method approval that we issued should not be broadly applicable, we request that you make us aware of the reasons in writing, and we will revisit the broad approval. Any objection to a broadly applicable alternative test method, as well as the resolution of that objection, will be announced on the EPA's Web site at www.epa.gov/ttn/emc/approalt.html and in the subsequent Federal Register notice. If we decide to retract a broadly applicable test method, we would continue to grant case-by-case approvals, as appropriate, and would (as states, local and tribal agencies and the EPA Regional Offices should) consider the need for an appropriate transition period for users either to request case-by-case approval or to transition to an approved method.

Dated: February 9, 2012.
Mary E. Henigin,
Acting Director, Office of Air Quality Planning and Standards.

Table 1—Approved Alternative Test Methods and Modifications To Test Methods Referenced in or Published Under Appendices in 40 CFR Parts 59, 60, 61, and 63 Made Between January 2011 and December 2011
Alternative method decision letter/memo No. | As an alternative or modification to . . . | For . . . | You may . . .
ALT-068 | Method 24-Determination of Volatile Matter Content, Water Content, Density, Volume Solids, and Weight Solids of Surface Coatings | Sources subject to 40 CFR part 59, subpart D-National Volatile Organic Emissions for Architectural Coatings | Use method in 40 CFR part 59, subpart D, Appendix A in lieu of Method 24.
ALT-081 | Method 25C-Determination of Nonmethane Organic Compounds (NMOC) in Landfill Gases | Sources subject to 40 CFR part 60, subpart WWW-Standards of Performance for Municipal Solid Waste Landfills | Use a combination of Method 25C probes and leachate vents and gas wells to collect NMOC samples.
ALT-082 | Method 9-Visual Determination of the Opacity of Emissions from Stationary Sources | Sources subject to 40 CFR parts 60, 61, and 63 | Use the American Society for Testing and Materials (ASTM) D 7520-09 with specified limitations in lieu of Method 9.
ALT-084 | ASTM D 6216-98 | Continuous opacity monitoring systems (COMS) specified in Performance Specification 1 (PS-1) of 40 CFR, part 60, Appendix B | Certify your COMS with either ASTM D 6216-98, D 6216-03, or D 6216-07.
ALT-085 | ASTM D 4084-07 | Sources subject to 40 CFR part 63, subpart DDDDD, National Emission Standards for Hazardous Air Pollutants for Industrial, Commercial, and Institutional Boilers and Process Heaters | Use ASTM D 5504-08 to determine the hydrogen sulfide concentration in fuel gas at boilers in lieu of ASTM D 4084-07.
ALT-086 | ASTM D 3792 (GC Procedure) or ASTM D 4017 (Karl Fisher Titration) | Sources subject to 40 CFR parts 60, 61, and 63 | Use ASTM D 7358-07 to determine the water content of coatings in lieu of ASTM D 3792 or ASTM D 4017.
ALT-087 | Conducting a stratification test as required by Method 7E when testing reciprocating internal combustion engines | Sources subject to 40 CFR part 60, subpart IIII-Standards of Performance for Stationary Compression Ignition Internal Combustion Engines and subpart JJJJ-Standards of Performance for Stationary Spark Ignition Internal Combustion Engines | Use single-point sampling at the centroid of the exhaust when using Method 7E to determine NOX emissions from Federally-regulated engines.
ALT-088 | Using a mass flowmeter calibrated against Method 2-Determination of Stack Gas Velocity and Volumetric Flow Rate (Type S Pitot Tube) | Sources subject to 40 CFR part 60, subpart WWW-Standards of Performance for Municipal Solid Waste Landfills | Use the mass flowmeter recently calibrated by the manufacturer for measuring flow rate in lieu of calibration by Method 2.
ALT-089 | ASTM D 4084-07 | Sources subject to 40 CFR part 63, subpart DDDDD-National Emission Standards for Hazardous Air Pollutants for Industrial, Commercial, and Institutional Boilers and Process Heaters | Use Method 15 to measure H2S in refinery fuel gas in lieu of ASTM D 4084-07.
ALT-090 | Determining vapor pressure required by 40 CFR part 60, subpart Kb | Source applicability determination in accordance with Section 60.110b of 40 CFR part 60, subpart Kb-Standards of Performance for Volatile Organic Liquid Storage Vessels (Including Petroleum Liquid Storage Vessels) for Which Construction, Reconstruction, or Modification Commenced After July 23, 1984 | Use the “Test Method for Vapor Pressure of Reactive Organic Compounds in Heavy Crude Oil Using Gas Chromatography” dated May 28, 2002 by David Littlejohn and Donald Lucas to measure vapor pressure of any volatile organic liquid containing heavy crude oil.

Source owners or operators should review the specific broadly applicable alternative method approval letter on the EPA's Web site at www.epa.gov/ttn/emc/approalt.html before electing to employ it.

[FR Doc. 2012-3581 Filed 2-14-12; 8:45 am]

BILLING CODE 6560-50-P